DEPARTMENT OF THE TREASURY

Office of Thrift Supervision

Submission for OMB Review; Comment Request

February 13, 2001.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, D.C. 20552.

DATES: Submit written comments on or before March 19, 2001.

OMB Number: 1550-0005, 1550-0015, 1550-0037.

Form Number: OTS Forms 138/138-E/138-F, Form H-(e), Form 1240.

Type of Review: Regular.

Title: De Novo Application, Savings Association Holding Company Application, Fiduciary Powers Application.

Description: To obtain information necessary to determine whether an entity meets the statutory requirements to approve the application request.

Respondents: Savings and Loan Associations and Savings Banks.

Estimated Number of Responses: 80.

Estimated Burden Hours Per Response: 316 hours.

Frequency of Response: Occasionally when an entity seeks regulatory approval for activity request.

Estimated Total Reporting Burden: 25,290 hours.

Clearance Officer: Evelyn Canning, (202) 906-7988, Office of Thrift Supervision, 1700 Street, NW., Washington, DC 20552.

OMB Reviewer: Alexander Hunt, (202) 395-7860, Office of Management and Budget, Room 10202, New Executive Office Building, Washington, DC 20503.

Barbara Taylor,
Manager, Quality Assurance Research and Information Systems.

[FR Doc. 01-3998 Filed 2-15-01; 8:45 am]

BILLING CODE 6720-01-P